DEPARTMENT OF ENERGY

Federal Energy Regulatory Commission

[Project No. 15405-000]

Bevill Hydroelectric, LLC; Notice of Preliminary Permit Application Accepted for Filing and Soliciting Comments, Motions To Intervene, and Competing Applications

On May 30, 2025, Bevill Hydroelectric, LLC, filed an application for a preliminary permit, pursuant to section 4(f) of the Federal Power Act (FPA), proposing to study the feasibility of a hydropower project to be located at the U.S. Army Corps of Engineers' (Corps) Tom Bevill Lock and Dam, on the Tennessee Tombigbee Waterway, near the City of Pickensville, Pickens County, Alabama. The sole purpose of a preliminary permit, if issued, is to grant the permit holder priority to file a license application during the permit term. A preliminary permit does not authorize the permit holder to perform any land-disturbing activities or otherwise enter upon lands or waters owned by others without the owners' express permission.

The proposed Tom Bevill Lock and Dam Hydroelectric Project would consist of the following: (1) a 50-foot-wide, 50-foot-long intake structure; (2) a 50-foot-wide, 190-foot-long reinforced concrete powerhouse located adjacent to western abutment within the spillway, containing one 12.5-megawatt, pit style turbine generator; (3) a 50-foot-long, 50-foot-wide dredged tailrace channel that would direct flow to the river downstream from the dam; and (4) a 1.3 mile-long, 69-kilovolt transmission line. The proposed project would have an estimated annual generation of 59.6 gigawatt-hours.

Applicant Contact: Jeremy King, Current Hydro, One Boston Place, Suite 2600, Boston, MA; phone at (706) 835-8516.

FERC Contact: Prabharanjani Madduri; at (202) 502-8017, or by email at prabharanjani.madduri@ferc.gov.

The deadline for filing comments, motions to intervene, competing applications (without notices of intent), or notices of intent to file competing applications: on or before 5:00 p.m. Eastern Time on September 15, 2025. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15405.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595, or OPP@ferc.gov.

More information about this project, including a copy of the application, can be viewed, or printed on the “eLibrary” link of the Commission's website at https://elibrary.ferc.gov/eLibrary/search. Enter the docket number (P-15405) in the docket number field to access the document. For assistance, contact FERC Online Support.

(Authority: 18 CFR 2.1.)

Dated: July 17, 2025.
Debbie-Anne A. Reese,
Secretary.

[FR Doc. 2025-14023 Filed 7-24-25; 8:45 am]

BILLING CODE 6717-01-P